ENVIRONMENTAL PROTECTION AGENCY

[ER-FRL-8990-6]

Environmental Impacts Statements; Notice of Availability

Responsible Agency: Office of Federal Activities, General Information (202) 564-1399 or http://www.epa.gov/compliance/nepa/.

Weekly receipt of Environmental Impact Statements

Filed 05/17/2010 Through 05/21/2010

Pursuant to 40 CFR 1506.9.

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its website at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100184, Draft EIS, NPS, 00, Brucellosis Remote Vaccination Program for Bison Project, Implementation, Yellowstone National Park, ID, MT and WY, Comment Period Ends: 07/26/2010, Contact: Rick Wallen 307-344-2207

EIS No. 20100185, Draft EIS, USACE, CA, West Sacramento Levee Improvements Program, To Protect Human Health and Safety and Prevent Adverse Effect on Property and its Economy, 408 Permission, Yolo and Solano Counties, CA, Comment Period Ends: 07/12/2010, Contact: John Suazo 916-557-6719.

EIS No. 20100186, Draft EIS, FHWA, WA, WA-520 Bridge Replacement and HOV Program, To Build the New Pontoon Construction Facility, Gray Harbor and Pierce Counties, WA, Comment Period Ends: 07/12/2010, Contact: Allison Hanson 206-382-5279.

EIS No. 20100187, Draft EIS, BPA, WA, Whistling Ridge Energy Project, Construction and Operation of a 75-megawatt (MW) Wind Turbine Facility, City of White Salmon, Skamania County, WA, Comment Period Ends: 07/19/2010, Contact: Andrew M. Montano 503-230-4145 .

EIS No. 20100188, Final EIS, BLM, MT, Indian Creek Mine Expansion, Proposed Mine Expansion would include Quarry Areas, Mine Facilities, Ore Storage Sites, Soil Salvage Stockpiles, Haul Roads, and Overburden Disposal Areas, Issuing Operating Permit #00105 and Plan of Operation #MTM78300, Broadwater County, MT, Wait Period Ends: 06/28/2010, Contact: David Williams 406-533-7655 .

EIS No. 20100189, Final EIS, BLM, AK, LEGISLATIVE—Glacier Bay National Park Project, Authorize Harvest of Glaucous-Winged Gull Eggs by the Huna Tlingit,Implementation, AK, Wait Period Ends: 06/28/2010, Contact: Cherry Payne 907-697-2230.

EIS No. 20100190, Final EIS, USFS, OR, Westside Rangeland Analysis Project, Proposal to Allocate Forage for Commercial Livestock Grazing on Six Alternatives, Mud and Tope Creeks, Wallowa Valley Ranger District, Wallowa-Whitman National Forest, Wallowa County, OR, Wait Period Ends: 06/28/2010, Contact: Alicia Glassford 541-426-5689.

EIS No. 20100191, Draft EIS, FTA, AK, Hatcher Pass Recreation Area Access Trails, and Transit Facilities, To Develop Transportation Access and Transit-Related Infrastructure, Northern and Southern Areas, Hatcher Pass, AK, Comment Period Ends: 07/12/2010, Contact: Erin Green 206-220-7430.

EIS No. 20100192, Final EIS, FHWA, WA, East Lake Sammamish Master Plan Trail, Design and Construct an Alternative Non-Motorized Transportation and Multi-Use Recreational Trail, Funding and US Army COE Section 404 Permit, King County, WA, Wait Period Ends: 06/28/2010, Contact: Pete Jilek 360-753-9550.

EIS No. 20100193, Final EIS, FRA, CA, Adoption—March 2004 Transbay Terminal/Caltrain Downtown Extension/Redevelopment Program (Transbay Program) Phase 1, San Francisco, San Mateo and Santa Clara, CA, Wait Period Ends: 06/28/2010, Contact: Jerome Wiggins 415-744-3115 US DOT/FRA has adopted the FTA's FEIS #20040148, filed 03/26/2004. FRA was not a Cooperating Agency for the above FEIS. Recirculation of the document is necessary under Section 1506.3(b) of the CEQ Regulations.

EIS No. 20100194, Draft EIS, USFS, CA, Hi-Grouse Project, Proposes to Treat Ponderosa Pine and Mixed Conifer Stands to Improve Long-Term Forest Health and Reduce Fuels within the Goosenest Adaptive Management Area, Goosenest Ranger District, Klamath National Forest, Siskiyou Co, CA,Comment Period Ends: 07/12/2010, Contact: Wendy Dosrowalski 530-398-4391.

EIS No. 20100195, Final EIS, BR, CA, Cachuma Lake Resource Management Plan, Implementation, Cachuma Lake, Santa Barbara County, CA, Wait Period Ends: 06/28/2010, Contact: Jack Collins 559-349=4544.

EIS No. 20100196, Draft EIS, NPS, FL, Everglades National Park Tamiami Trail Modifications: Next Steps Project, To Restore More Natural Water Flow to Everglades National Parks and Florida Bay, FL, Comment Period Ends: 07/19/2010, Contact: Dan Kimball 305-242-7712.

EIS No. 20100197, Final EIS, USFS, WI, Honey Creek-Padus Project, Proposes to Harvest Timber, Regenerate Stands, Plant and Protect Tree Seedlings and Manage Access on Approximately 6,702 Acres, Lakewood-Laona Ranger District, Chequamegon-National Forest, Forest County, WI, Wait Period Ends: 06/28/2010, Contact: Marilee Houlter 715-276-6333.

EIS No. 20100198, Draft EIS, NOAA, WI, Lake Superior National Estuarine Research Reserves to be known as the Lake Superior Reserve Proposed Designation, To Provide Greater Protection, Research and Education Opportunities to 16,697 Acres of the St. Louis River Estuary, WI, Comment Period Ends: 07/12/2010, Contact: Laurie McGilray 301-713-3155 Ext. 158.

EIS No. 20100199, Draft EIS, USMC, 00, East Coast Basing of the F-35B Project, Construction, Demolition and/or Modification Airfield Facilities and Infrastructure, SC and NC, Comment Period Ends: 07/12/2010, Contact: Linda Blount 757-341-0491.

EIS No. 20100200, Final EIS, WAPA, SD, Deer Creek Station Energy Facility Project, Proposed 300-megawatt (MW) Natural Gas-Fired Generation Facility, Brookings County, SD, Wait Period Ends: 06/28/2010, Contact: Matt Marsh 406-247-7395.

Dated: May 25, 2010.
Robert W. Hargrove,
Director, NEPA Compliance Division, Office of Federal Activities.

[FR Doc. 2010-12918 Filed 5-27-10; 8:45 am]

BILLING CODE 6560-50-P